DEPARTMENT OF VETERANS AFFAIRS

Advisory Committee on CARES Business Plan Studies; Notice of Meeting

The Department of Veterans Affairs (VA) gives notice under the Public Law 92-463 (Federal Advisory Committee Act) that the Advisory Committee on CARES Business Plan Studies has scheduled a meeting for September 6, 2007, at the West Los Angeles Campus of the Greater Los Angeles Health Care System, in the Wadsworth Theater, 11301 Wilshire Boulevard, Los Angeles, California. The meeting will convene at 5 p.m. and conclude at 9 p.m. The meeting is open to the public.

The purpose of the Committee is to provide advice to the Secretary of Veterans Affairs on proposed business plans at those VA facility sites identified in May 2004 as requiring further study by the Capital Asset Realignment for Enhanced Services (CARES) Decision document.

The objective of this meeting is to provide the Secretary with advice regarding the final selection of a capital planning option to modernize the West Los Angeles campus of the Greater Los Angeles Health Care System. An analysis of the capital planning options completed by the VA contractor is to be presented at the meeting prior to their final submission to the VA. The agenda will also accommodate public commentary on the options.

Interested persons may attend and present oral or written statements to the Committee. For additional information regarding the meeting, please contact Mr. Jay Halpern, Designated Federal Officer, (00 CARES), at 810 Vermont Avenue, NW., Washington, DC 20420, by phone at (202) 273-5994, or by e-mail at jay.halpern@va.gov.

Dated: August 13, 2007.
By Direction of the Secretary.
E. Philip Riggin,
Committee Management Officer.

[FR Doc. 07-4046 Filed 8-17-07; 8:45 am]

BILLING CODE 8320-01-M